DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 30, 2009. Address written comments to Statutory Import Programs Staff, Room 3720, U.S. Department of Commerce, Washington, D.C. 20230. Applications may be examined between 8:30 a.m. and 5 p.m. at the U.S. Department of Commerce in Room 3720.

Docket Number: 09-032. Applicant: National Renewable Energy Laboratory, 1617 Cole Blvd., Golden, Colorado 80401. Instrument: MicroTime 200 Single Molecule Fluorescence Lifetime Imaging System. Manufacturer: PicoQuant GmbH, Germany. Intended Use: This instrument will be used in biomass characterization. The instrument will be capable of doing Fluorescence Lifetime Imaging, measuring Fluorescence resonance Energy Transfer and Fluorescence Correlation Spectroscopy for single fluorescent molecules. Justification for Duty-Free Entry: There are no instruments of the same general category being manufactured within the United States. Application accepted by Commissioner of Customs: June 17, 2009.

Docket Number: 09-034. Applicant: University of Georgia, 1151 East Whitehall Rd., Athens, GA 30605. Instrument: Gasification Unit. Manufacturer: Termoquip Energia Alternativa LTDA, Brazil. Intended Use: This instrument will be use to turn biomass into syngas, which is composed of hydrogen and carbon monoxide that can be catalytically upgraded to liquid fuel, chemicals and energy. Justification for Duty-Free Entry: There are no instruments of the same general category being manufactured within the United States. Application accepted by Commissioner of Customs: June 2, 2009.

Dated: July 1, 2009.
Christopher Cassel,
Acting Director, IA Subsidies Enforcement Office.

[FR Doc. E9-16287 Filed 7-9-09; 8:45 am]

BILLING CODE 3510-DS-S